FEDERAL COMMUNICATIONS COMMISSION

Radio Broadcasting Services; AM or FM Proposals To Change the Community of License

AGENCY: Federal Communications Commission.

ACTION: Notice.

SUMMARY: The following applicants filed AM or FM proposals to change the community of license: DOUGLAS BROADCASTING, INC., Station KLNQ, Facility ID161152, BMP-20111107ALX, From CASPER, WY, To EVANSVILLE, WY; HISPANIC TARGET MEDIA INC., Station NEW, Facility ID 183311, BNPH-20091019ADD, From KERNVILLE, CA, To RIDGECREST, CA; OLIVET NAZARENE UNIVERSITY, Station WTMK, Facility ID 90498, BPED-20111103AGS, From LOWELL, IN, To WANATAH, IN; RADIO LICENSE HOLDING CBC, LLC, Station KSMB, Facility ID 41057, BPH-20111012AEE, From LAFAYETTE, LA, To BAKER, LA.

DATES: The agency must receive comments on or before January 24, 2012.

ADDRESSES: Federal Communications Commission, 445 12th Street SW., Washington, DC 20554.

FOR FURTHER INFORMATION CONTACT: Tung Bui, (202) 418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm.

A copy of this application may also be purchased from the Commission's duplicating contractor, Best Copy and Printing, Inc., 445 12th Street SW., Room CY-B402, Washington, DC 20554, telephone 1-(800) 378-3160 or http://www.BCPIWEB.com.

Federal Communications Commission.
James D. Bradshaw,
Deputy Chief, Audio Division, Media Bureau.

[FR Doc. 2011-30395 Filed 11-23-11; 8:45 am]

BILLING CODE 6712-01-P